DEPARTMENT OF DEFENSE

Office of the Secretary

[Docket ID DoD-2009-OS-0130]

Privacy Act of 1974; Systems of Records

AGENCY: National Security Agency/Central Security Service, DoD.

ACTION: Notice to add a System of Records.

SUMMARY: The National Security Agency/Central Security Service proposes to add a system of records notices in its inventory of record systems subject to the Privacy Act of 1974, (5 U.S.C. 552a), as amended.

DATES: This proposed action will be effective without further notice on September 18, 2009 unless comments are received which would result in a contrary determination.

ADDRESSES: Send comments to the National Security Agency/Central Security Service, Freedom of Information Act and Privacy Act Office, 9800 Savage Road, Suite 6248, Ft. George G. Meade, MD 20755-6248.

FOR FURTHER INFORMATION CONTACT: Ms. Anne Hill at (301) 688-6527.

SUPPLEMENTARY INFORMATION: The National Security Agency's record system notices for records systems subject to the Privacy Act of 1974 (5 U.S.C. 552a), as amended, have been published in the Federal Register and are available from the address above.

The proposed system report, as required by 5 U.S.C. 552a(r) of the Privacy Act of 1974, as amended, was submitted on August 12, 2009, to the House Committee on Oversight and Government Reform, the Senate Committee on Homeland Security and Governmental Affairs, and the Office of Management and Budget (OMB) pursuant to paragraph 4c of Appendix I to OMB Circular No. A-130, `Federal Agency Responsibilities for Maintaining Records About Individuals,' dated August 09, 2009 61 FR 6427).

Dated: August 12, 2009.
Patricia L. Toppings,
OSD Federal Register Liaison Officer, Department of Defense.

GNSA 26

System Name:

NSA/CSS Accounts Receivable, Indebtedness and Claims.

System location:

National Security Agency/Central Security Service, 9800 Savage Road, Ft. George G. Meade, MD 20755-6000.

Categories of individuals covered by the system:

Current and former civilian employees, current and former military assignees, dependents of employees, military assignees, and other individuals who may be indebted to the National Security Agency/Central Security Service (NSA/CSS),another government agency, or have a claim pending against NSA/CSS.

Categories of records in the system:

Records maintained in this system include documentation pertaining to telephone bills; dishonored checks; erroneous payments; property losses and damages; administratively determined indebtedness; cash collection vouchers; correspondence from or to the debtor or claimant; applications for waiver of erroneous payments or for remission of indebtedness with supporting documentation; claims of individuals requesting additional payments with supporting documentation; and litigation records or reports from probate courts and bankruptcy courts. Records may contain names, Social Security Numbers (SSNs), debt amounts, interest and penalty amounts, debt reasons, debt status, demographic information, such as grade or rank, sex, date of birth, duty and home address, and any other information necessary to identity the individual, the amount, and the history of the claim or debt.

Authority for maintenance of the system:

5 U.S.C. Chapter 55, subchapter II, Pay Administration, Withholding Pay; 31 U.S.C. Chapter 35, Accounting and Collection; 31 U.S.C. Chapter 37, Claims; 31 CFR Part 285, Debt Collection Authorities Under the Debt Collection Improvement Act of 1996; 31 CFR 31, Parts 900-904, Federal Claims Collection Standards, and E.O. 9397 (SSN), as amended.

Purpose(s):

To support the NSA/CSS debt management program in identifying, recovering, and collecting debts owed by individuals to the U.S. government, as appropriate.

To manage, evaluate and process claims against NSA/CSS.

Also used as a management tool for statistical analysis, tracking, reporting, evaluating program effectiveness and conducting research.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

To the U.S. Government Accountability Office, the U.S. Department of Justice, Internal Revenue Service, U.S. Department of the Treasury, or other federal agencies for further collection action on any delinquent account when circumstances warrant.

To any entity or individual under contract with NSA/CSS for the purpose of providing debt management related services.

To the U.S. Department of Treasury (DOT) for centralized administrative or salary offset, including the offset of federal income tax refunds, for the purpose of collecting debts owed the U.S. Government; to the DOT contracted private collection agencies for the purpose of obtaining collection services, including administrative wage garnishment in accordance with the Debt collection Improvement Act of 1996 (Pub. L. 104-134) to recover moneys owed to the U.S. Government.

To any party, counsel, representative, and/or witness, in any legal proceeding, where pertinent, to which DoD is a party before a court or administrative body including, the Equal Employment Opportunity Commission and Merit System Protection Board.

The DoD `Blanket Routine Uses' published at the beginning of the NSA/CSS's compilation of record systems also apply to this record system.

Disclosure to consumer reporting agencies:

Disclosures pursuant to 5 U.S.C. 552a(b)(12) may be made from this system to “consumer reporting agencies” as defined in the Fair Credit Reporting Act (15 U.S.C. 1681a(f) or the Federal claims Collection Act of 1966 (31 U.S.C. 3701(a)(3)). The purpose of such disclosures is to aid in the collection of outstanding debts owed to the Federal Government. The disclosures typically provide an incentive for debtors to repay delinquent Federal Government debts by making these debts part of their credit records.

All disclosures are limited to information necessary to establish the identity of the individual, including name, address, and taxpayer identification number (Social Security Number (SSN)); the amount, status, and history of the claim, and the agency or program under which the claim arose for the sole purpose of allowing the consumer reporting agency to prepare a commercial credit report. Any such disclosures will only be made after the procedural requirement of 31 U.S.C. 3711(f), Collection and Compromise has been followed.

Policies and practices for storing, retrieving, accessing, retaining, and disposing of records in the system:

Storage:

Paper records in file folders and electronic storage media.

Retrievability:

By Name, Social Security Number (SSN).

Safeguards:

Buildings are secured by a series of guarded pedestrian gates and checkpoints. Access to facilities is limited to security-cleared personnel and escorted visitors only. Within the facilities themselves, access to paper and computer printouts are controlled by limited-access facilities and lockable containers. Access to electronic means is controlled by computer password protection.

Retention and disposal:

Records relating to claims and the waiver of claims against the United States are retained for 6 years and 3 months and then destroyed.

Records relating to claims due to the United States paid in full are retained 6 years and 3 months and then destroyed.

Records relating to claims that are affected by a court order or that are subject to litigation are destroyed when the court order is lifted, litigation is concluded or when 6 years and 3 months old, whichever is later.

All records are destroyed by pulping, burning, shredding, or erasure or destruction of magnet medial.

System manager(s) and address:

Chief, Accounts Receivable, National Security Agency/Central Security Service, 9800 Savage Road, Ft. George G. Meade, MD 20755-6000.

Notification procedure:

Individuals seeking to determine if records about themselves are contained in this record system should address written inquiries to the National Security Agency/Central Security Service, Freedom of Information Act/Privacy Act Office, 9800 Savage Road, Suite 6248, Ft. George G. Meade, MD 20755-6248.

Written inquires should include individual's full name, address, and telephone number.

Record access procedures:

Individuals seeking access to records about themselves contained in this record system should address written inquiries to the National Security Agency/Central Security Service, Freedom of Information Act/Privacy Act Office, 9800 Savage Road, Suite 6248, Ft. George G. Meade, MD 20755-6248.

Written inquires should include individual's full name, address, and telephone number.

Contesting record procedures:

The NSA/CSS rules for contesting contents and appealing initial determinations are published at 32 CFR part 322 or may be obtained by written request addressed to the National Security Agency/Central Security Service, Freedom of Information Act/Privacy Act Office, Suite 6248, Ft. George G. Meade, MD 20755-6248.

Record source categories:

Information is collected from the individual and the individual's supervisor, the hiring activity's personnel office and/or finance office, and from travel and expense forms.

Exemptions claimed for the system:

Investigatory material compiled for law enforcement purposes, other than material within the scope of subsection 5 U.S.C. 552a(j)(2), may be exempt pursuant to 5 U.S.C. 552a(k)(2). However, if an individual is denied any right, privilege, or benefit for which he would otherwise be entitled by Federal law or for which he would otherwise be eligible, as a result of the maintenance of such information, the individual will be provided access to the information exempt to the extent that disclosure would reveal the identity of a confidential source. NOTE: When claimed, this exemption allows limited protection of investigative reports maintained in a system of records used in personnel or administrative actions.

Records maintained solely for statistical research or program evaluation purposes and which are not used to make decisions on the rights, benefits, or entitlement of an individual except for census records which may be disclosed under 13 U.S.C. 8, may be exempt pursuant to 5 U.S.C. 552a(k)(4).

An exemption rule for this record system has been promulgated according to the requirements of 5 U.S.C. 553(b)(1), (2), and (3), (c) and (e) and published in 32 CFR part 322. For additional information contact the system manager.

[FR Doc. E9-19866 Filed 8-18-09; 8:45 am]

BILLING CODE 5001-06-P